DEPARTMENT OF HEALTH AND HUMAN SERVICES

Centers for Disease Control and Prevention

[60Day-25-0980; Docket No. CDC-2025-0618]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Environmental Assessment Reporting System (NEARS). This system collects data from foodborne illness outbreak environmental assessments routinely conducted by local, state, territorial, or tribal food safety programs in health departments during foodborne outbreak investigations.

DATES: CDC must receive written comments on or before December 1, 2025.

ADDRESSES: You may submit comments, identified by Docket No. CDC-2025-0618 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Environmental Assessment Reporting System (NEARS) (OMB Control No. 0920-0980, Exp. 2/26/2026)—Revision—National Center for Environmental Health (NCEH), Centers for Disease Control and Prevention (CDC)

Background and Brief Description

CDC is requesting OMB approval for the National Environmental Assessment Reporting System (NEARS) to collect data from outbreak environmental assessments routinely conducted by local, state, territorial, or tribal food safety programs during foodborne outbreak investigations. Prior to the development of NEARS, environmental assessment data were not collected at the national level. The data reported through this surveillance system provides timely information on the causes of outbreaks, including environmental factors associated with outbreaks, and are essential to environmental public health regulators' efforts to respond more effectively to outbreaks and prevent future, similar outbreaks. NEARS was developed by the Environmental Health Specialists Network (EHS-Net), a collaborative network of CDC, the U.S. Food and Drug Administration (FDA), the U.S. Department of Agriculture (USDA), and state and local food safety programs. The network consists of environmental health specialists (EHS), epidemiologists, and laboratorians. EHS-Net developed a standardized protocol for identifying, reporting, and analyzing data relevant to foodborne illness outbreak environmental assessments. While conducting environmental assessments during foodborne outbreak investigations is routine for food safety program officials, reporting information from the environmental assessments to CDC is not routine. Local, state, federal, territorial, and tribal food safety programs are the primary respondents for this data collection. One official from each participating program will report environmental assessment data on outbreaks. These programs are typically located in public health or agriculture agencies. In the U.S., there are approximately 3,000 such agencies.

It is not possible to determine exactly how many outbreaks will occur in the future, nor where they will occur. Forty (40) programs reported outbreaks to NEARS from 2021-2024. Based on our experience over those years, we expect a maximum of six additional sites (two per year) to register with and report data to NEARS over the next approval cycle, for a total of 46 reporting programs. We also expect each program to report an average of six outbreaks annually.

The activities associated with NEARS that require a burden estimate consist of training, observing, interviewing managers, and reporting the data. The first activity is the training for the new food safety program personnel participating in NEARS. These staff will be encouraged to attend a Microsoft Teams/Zoom Meeting (i.e., webinar) training session on using the NEARS data entry system, conducted by CDC staff. Training burden is based on the maximum expected participation from the reporting programs which could be up to 10 additional local and state health departments. We estimate the burden of this training to be a maximum of two hours. Respondents will only be required to take this training one time. Assuming a maximum participation of up to six new programs and about five staff being trained at each participating program, the total estimated annual burden associated with this training is 60 hours.

New food safety program personnel participating in NEARS will also be encouraged to complete CDC's Environmental Assessment Training Series (EATS). This e-Learning course provides training to staff on how to use a systems approach in foodborne illness outbreak environmental assessments. We estimate the burden of this training to be a maximum of 10 hours. Respondents will only take this training one time. Assuming a maximum participation of up to six new programs and approximately five staff being trained at each program, the estimated annual burden associated with this training is 300 hours.

Program respondents (one official from each participating program) will record environmental assessment data on pen and paper for each establishment associated with an outbreak. Most outbreaks are associated with only one establishment; however, some are associated with multiple establishments. We estimate a maximum of four establishments will be associated with any given outbreak. Recording for each assessment will take about 25 minutes. The burden for this activity is 460 hours.

Program respondents will conduct a manager interview with each establishment associated with an outbreak and initially record the data with pen and paper. Each interview will take about 15 minutes. The burden for this activity is 276 hours.

Respondents will also report this environmental assessment and manager interview data into the NEARS web-based system. This data entry is expected to take approximately 25 minutes for the environmental assessment data and 20 minutes for each manager interview (assuming a maximum of four). The burden for this activity is 207 hours.

The retail food managers interviewed are another group of respondents. Again, assuming a maximum number of 276 outbreaks, the estimated annual burden is 276 hours.

The total estimated annual burden for this information collection is 1,579 hours. There is no cost to respondents other than their time.

Estimated Annualized Burden Hours
Type of respondents | Form name | Number of respondents | Number of responses per respondent | Average burden per response (in hours) | Total burden (in hours)
Food safety program personnel | NEARS introduction training NEARS e-learning (screenshots) NEARS environmental assessment data (recording form) NEARS manager interview (recording form) NEARS web entry (screenshots) | 30 30 46 46 46 | 1 1 24 24 6 | 2 10 25/60 15/60 45/60 | 60 300 460 276 207
Retail food personnel | NEARS manager interview | 1,104 | 1 | 15/60 | 276
Total |  |  |  |  | 1,579

Jeffrey M. Zirger,
Lead, Information Collection Review Office, Office of Public Health Ethics and Regulations, Office of Science, Centers for Disease Control and Prevention.

[FR Doc. 2025-19253 Filed 10-1-25; 8:45 am]

BILLING CODE 4163-18-P